DEPARTMENT OF TRANSPORTATION

Federal Transit Administration

[FTA Docket No. FTA-2007-28427]

Notice of Request for a New Information Collection

AGENCY: Federal Transit Administration, DOT.

ACTION: Notice of request for comments.

SUMMARY: In accordance with the Paperwork Reduction Act of 1995, this notice announces the intention of the Federal Transit Administration (FTA) to request the Office of Management and Budget (OMB) to approve the following new information collection: Customer Service Surveys of FTA Grantees and Stakeholders.

DATES: Comments must be submitted before August 7, 2007.

ADDRESSES: All written comments must refer to the docket number that appears at the top of this document and be submitted to the United States Department of Transportation, Central Dockets Office, PL-401, 400 Seventh Street, SW., Washington, DC 20590. Comments may also be faxed to (202) 493-2251; or submitted electronically at http://dms.dot.gov. All comments should include the docket number in this notice's heading. All comments may be examined and copied at the above address from 9 a.m. to 5 p.m., Monday through Friday, except Federal holidays. If you desire a receipt, you must include a self-addressed envelope or postcard or, if you submit your comments electronically, you may print the acknowledgement page.

FOR FURTHER INFORMATION CONTACT: Rick Krochalis, FTA Region 10 Office, (206) 220-7954.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Customer Service Surveys of FTA Grantees and Stakeholders

(OMB Number: 2132-New).

Background: Executive Order 12862, “Setting Customer Service Standards,” requires FTA to identify its customers and determine what they think about FTA's service. The surveys covered in this request will provide FTA with a means to gather data directly from its customers. The information obtained from the surveys will be used to assess how FTA's services are perceived by customers and stakeholders, determine opportunities for improvement and establish goals to measure results. The surveys will be limited to data collections that solicit voluntary opinions and will not involve information that is required by regulations.

Respondents: State and local government, public and private transit operators, Metropolitan Planning Organizations (MPOs), transit constituents, and other stakeholders.

Estimated Annual Burden on Respondents: 1 hour for each of the 1,800 respondents.

Estimated Total Annual Burden: 1,800 hours.

Frequency: Annual.

Issued: June 5, 2007.
Ann M. Linnertz,
Associate Administrator for Administration.

[FR Doc. E7-11117 Filed 6-7-07; 8:45 am]

BILLING CODE 4910-57-P